DEPARTMENT OF LABOR

Employment and Training Administration

[TA-W-39,545]

Invensys Systems Inc., Systems Manufacturing, Foxboro, MA; Amended Certification Regarding Eligibility to Apply for Worker Adjustment Assistance

In accordance with section 223 of the Trade Act of 1974 (19 U.S.C. 2273) the Department of Labor issued a Certification of Eligibility to Apply for Worker Adjustment Assistance on September 10, 2001, applicable to workers of Invensys Systems Inc., Systems Manufacturing, located in Foxboro, Massachusetts. The notice was published in the Federal Register on September 10, 2001 (66 FR 48707).

At the request of the State agency, the Department reviewed the certification for workers of the subject firm. Review of the investigation file shows that the Systems Manufacturing division of the plant produced articles in addition to printed circuit boards.

The intent of the Department's certification is to include only those workers of Invensys Systems, Inc., Systems Manufacturing, Foxboro, Massachusetts, adversely affected by the increased imports of printed circuit boards. Accordingly, the Department is amending the certification to limit the worker group coverage to those engaged in activities related to the production of printed circuit boards.

The amended notice applicable to TA-W-39,545 is hereby issued as follows:

All workers engaged in activities related to the production of printed circuit boards at Invensys Systems, Inc., Systems Manufacturing, Foxboro, Massachusetts, who became totally or partially separated from employment on or after June 4, 2000, through September 10, 2003, are eligible to apply for adjustment assistance under Section 223 of the Trade Act of 1974.

Signed in Washington, DC this 3rd day of October 2001.
Edward A. Tomchick,
Certifying Officer, Division of Trade Adjustment Assistance.

[FR Doc. 01-26047 Filed 10-16-01; 8:45 am]

BILLING CODE 4510-30-M